DEPARTMENT OF ENERGY

Federal Energy Regulatory Commission

Privacy Act of 1974; System of Records

AGENCY: Federal Energy Regulatory Commission, Department of Energy.

ACTION: Notice of a modified system of records.

SUMMARY: As required by the Privacy Act of 1974, notice is hereby given that the Federal Energy Regulatory Commission (FERC) is amending the system of records entitled “FERC-62, Public Information Request” by revising the System Location; System Manager; Purpose; Categories of Individuals; Categories of Records; Record Source Categories; Policies and Practices for Retrieval of Records; and Administrative, Technical, and Physical Safeguards. FERC is publishing the system notice in its entirety.

DATES: Comments on this modified system of records must be received no later than 30 days after date of publication in the Federal Register. If no public comment is received during the period allowed for comment or unless otherwise published in the Federal Register by FERC, the modified system of records will become effective a minimum of 30 days after date of publication in the Federal Register. If FERC receives public comments, FERC shall review the comments to determine whether any changes to the notice are necessary.

ADDRESSES: Comments may be submitted in writing to Federal Energy Regulatory Commission, 888 First Street NE, Washington, DC 20426, or electronically to privacy@ferc.gov. Comments should indicate that they are submitted in response to Public Information Request. (FERC-62).

FOR FURTHER INFORMATION CONTACT: Mittal Desai, Chief Information Officer & Senior Agency Official for Privacy, Office of the Executive Director, Federal Energy Regulatory Commission, 888 First Street NE, Washington, DC 20426, (202) 502-6432.

SUPPLEMENTARY INFORMATION: The changes are made to reflect combining SORN FERC 61—Requests for Commission Publications and Information with this SORN and to include records collected through surveys. The notice is also being modified to add 11 new routine uses, including two prescribed routine uses that will permit FERC to disclose information as necessary in response to an actual or suspected breach of its own records or to assist another agency in its efforts to respond to a breach.

SYSTEM NAME AND NUMBER:

Public Information Request (FERC-62).

SECURITY CLASSIFICATION:

Unclassified.

SYSTEM LOCATION:

Federal Energy Regulatory Commission, Offices of External Affairs and Public Participation, Office of the Executive Secretary, 888 First Street NE, Washington, DC 20426.

SYSTEM MANAGER(S):

Federal Energy Regulatory Commission, 888 First Street NE, Washington, DC 20426.

AUTHORITY FOR MAINTENANCE OF THE SYSTEM:

5 U.S.C. 302, 18 CFR 388.104 and 18 CFR 388.106.

PURPOSE(S) OF THE SYSTEM:

To allow FERC to track information requests; to monitor status of public inquiries and average turn-around times for processing requests; to provide statistics to management on services provided; to identify trends in types of information being requested; to determine whether the responses to individual requesters were sufficient; to monitor trends in the volume of inquiries submitted to FERC based on assessed categories; and to enhance customer service by FERC staff and improve the types and quality of educational and informational materials available for distribution to the public.

CATEGORIES OF INDIVIDUALS COVERED BY THE SYSTEM:

Members of the general public, FERC staff, including FERC employees and contractors, Federal, State and local governments, Tribes, regulated entities, and public and private interest groups.

CATEGORIES OF RECORDS IN THE SYSTEM:

Name, address, affiliation, telephone number, email address, company, description of information being requested, receipt of request, completion dates, resolution of the request, and method of payment.

RECORD SOURCE CATEGORIES:

Members of the general public, FERC staff, including FERC employees and contractors, Federal, State and local governments, tribes, regulated entities, and public and private interest groups.

ROUTINE USES OF RECORDS MAINTAINED IN THE SYSTEM, INCLUDING CATEGORIES OF USERS AND PURPOSES OF SUCH USES:

In addition to those disclosures generally permitted under 5 U.S.C. 552a(b) of the Privacy Act, information maintained in this system may be disclosed to authorized entities outside FERC for purposes determined to be relevant and necessary as a routine use pursuant to 5 U.S.C. 552a(b)(3) as follows:

1. To appropriate agencies, entities, and persons when (1) FERC suspects or has confirmed that there has been a breach of the system of records; (2) FERC has determined that as a result of the suspected or confirmed breach there is a risk of harm to individuals, the Commission (including its information systems, programs, and operations), the Federal Government, or national security; and (3) the disclosure made to such agencies, entities, and persons is reasonably necessary to assist in connection with the Commission's efforts to respond to the suspected or confirmed breach or to prevent, minimize, or remedy such harm.

2. To another Federal agency or Federal entity, when FERC determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

3. To a congressional office from the record of an individual in response to an inquiry from that congressional office made at the request of that individual.

4. To the Equal Employment Opportunity Commission when requested in connection with investigations of alleged or possible discriminatory practices, examination of Federal affirmative employment programs, or other functions of the Commission as authorized by law or regulation.

5. To the Federal Labor Relations Authority or its General Counsel when requested in connection with investigations of allegations of unfair labor practices or matters before the Federal Service Impasses Panel.

6. To disclose information to another Federal agency, to a court, Tribe, or a party in litigation before a court or in an administrative proceeding being conducted by a Federal agency, when the Government is a party to the judicial or administrative proceeding. In those cases where the Government is not a party to the proceeding, records may be disclosed if a subpoena has been signed by a judge.

7. To the Department of Justice (DOJ) for its use in providing legal advice to FERC or in representing FERC in a proceeding before a court, adjudicative body, or other administrative body, where the use of such information by the DOJ is deemed by FERC to be relevant and necessary to the advice or proceeding, and such proceeding names as a party in interest: (a) FERC; (b) any employee of FERC in his or her official capacity; (c) any employee of FERC in his or her individual capacity where DOJ has agreed to represent the employee; or (d) the United States, where FERC determines that litigation is likely to affect FERC or any of its components.

8. To non-Federal Personnel, such as contractors, agents, or other authorized individuals performing work on a contract, service, cooperative agreement, job, or other activity on behalf of FERC or Federal Government and who have a need to access the information in the performance of their duties or activities.

9. To the National Archives and Records Administration in records management inspections and its role as Archivist.

10. To the Merit Systems Protection Board or the Board's Office of the Special Counsel, when relevant information is requested in connection with appeals, special studies of the civil service and other merit systems, review of Office of Personnel Management rules and regulations, and investigations of alleged or possible prohibited personnel practices.

11. To appropriate Federal, State, Tribe, or local agency responsible for investigating, prosecuting, enforcing, or implementing a statute, rule, regulation, or order, if the information may be relevant to a potential violation of civil or criminal law, rule, regulation, order.

12. To appropriate agencies, entities, and person(s) that are a party to a dispute, when FERC determines that information from this system of records is reasonably necessary for the recipient to assist with the resolution of the dispute; the name, address, telephone number, email address, and affiliation; of the agency, entity, and/or person(s) seeking and/or participating in dispute resolution services, where appropriate.

POLICIES AND PRACTICES FOR STORAGE OF RECORDS:

Records are stored in paper (assorted documents) or electronic media. Data center buildings are guarded and monitored by security personnel, cameras, ID checks, and other physical security measures. Physical access to the server rooms is limited to authorized personnel only. Records are maintained in lockable file cabinets in a lockable room with access limited to those employees whose official duties require access; servers are stored in secured facilities in cipher locked server rooms. Computer data is secured by password. The system is secured with the safeguards required by FedRAMP and NIST SP 800-53.

POLICIES AND PRACTICES FOR RETRIEVAL OF RECORDS:

Records are retrieved by date, name, company name, email address, telephone number or address.

POLICIES AND PRACTICES FOR RETENTION AND DISPOSAL OF RECORDS:

Records are retained under the National Archives and Records Administration's General Records Schedule 4.2: Information Access and Protection Records; Disposition Authority: DAA-GRS-2013-0007-0001: Temporary. Destroy when 90 days old, but longer retention is authorized if required for business use.

ADMINISTRATIVE, TECHNICAL, AND PHYSICAL SAFEGUARDS:

See Policies and Practices for Storage of Records.

RECORD ACCESS PROCEDURES:

Individuals requesting access to the contents of records must submit a request through the Office of External Affairs. The Freedom of Information Act website is located at https://ferc.gov/freedom-information-act-foia-and-privacy-act. Requests may be submitted by email to foia-ceii@ferc.gov. Written requests for access to records should be directed to: Director, Office of External Affair, Federal Energy Regulatory Commission, 888 First Street NE, Washington, DC 20426.

CONTESTING RECORD PROCEDURES:

See Record Access Procedures.

NOTIFICATION PROCEDURES:

Generalized notice is provided by the publication of this notice. For specific notice, see Records Access Procedure, above.

EXEMPTIONS PROMULGATED FOR THE SYSTEM:

None.

HISTORY:

The previous Federal Register notice citation is 79 FR 17533.

Issued: May 26, 2023.
Kimberly D. Bose,
Secretary.

[FR Doc. 2023-11766 Filed 6-1-23; 8:45 am]

BILLING CODE 6717-01-P